DEPARTMENT OF JUSTICE

Antitrust Division

Notice Pursuant to the National Cooperative Research and Production Act of 1993—Yoga Bridge Accreditation

Notice is hereby given that, on March 24, 2016, pursuant to Section 6(a) of the National Cooperative Research and Production Act of 1993, 15 U.S.C. 4301 et seq. (“the Act”), Yoga Bridge Accreditation (“YBA”) has filed written notifications simultaneously with the Attorney General and the Federal Trade Commission disclosing (1) the name and principal place of business of the standards development organization and (2) the nature and scope of its standards development activities. The notifications were filed for the purpose of extending the Act's provisions limiting the recovery of antitrust plaintiffs to actual damages under specified circumstances.

Pursuant to Section 6(b) of the Act, the name and principal place of business of the standards development organization is: YBA (Yoga Bridge Accreditation), Portland, OR. The nature and scope of YBA's standards and development activities are: To set industry standards for a diverse research based yoga training & education. YBA works on two fronts: To certify individuals interested in yoga according to our Standards, and, to offer certified continuing education classes for professionals in non-yoga related fields to incorporate YBA teachings into their existing professions.

Patricia A. Brink,
Director of Civil Enforcement, Antitrust Division.

[FR Doc. 2016-11740 Filed 5-17-16; 8:45 am]

BILLING CODE P